DEPARTMENT OF VETERANS AFFAIRS

Privacy Act of 1974

AGENCY: Department of Veterans Affairs (VA).

ACTION: Notice of establishment of new system of records.

SUMMARY: The Privacy Act of 1974 (5 U.S.C. 552(e)(4)) requires that all agencies publish in the Federal Register a notice of the existence and character of their systems of records. Notice is hereby given that the Department of Veterans Affairs (VA) is establishing a new system of records entitled “Veteran Canteen Service (VCS) Payroll Deduction System-VA” (117VA103).

DATES: Comments on this new system of records must be received no later than March 8, 2006. If no public comment is received, the new system will become effective March 8, 2006.

ADDRESSES: Written comments concerning the proposed system of records may be submitted by: Mail or hand-delivery to Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

FOR FURTHER INFORMATION CONTACT: Chief Financial Officer, Veterans Canteen Service, Department of Veterans Affairs, 810 Vermont Avenue, NW., Washington, DC 20420; telephone 314-845-1301.

SUPPLEMENTARY INFORMATION:

I. Description of Proposed Systems of Records

The VCS Payroll Deduction System allows VA employees, also known as customers, who participate in the program to pay for purchases in VCS canteens through deduction from their pay. It is used to track purchases, payments, refunds, balances, payment status, and other information for these customers.

II. Proposed Routine Use Disclosures of Data in the System

VA is proposing to establish the following Routine Use disclosures of information maintained in this system:

1. VA may disclose information from this system of records to a private debt collection agent for the purpose of collecting unpaid balances from customers who have left VA employment without making full payment for purchases made under the program.

2. VA may disclose information from this system of records to the U.S. Treasury Offset Program (TOPS) for the purpose of collecting unpaid balances from customers who have left VA employment without making full payment for purchases made under the program.

VA needs to be able to collect unpaid balances from customers who have left VA employment without making full payment to VCS for purchases made under the program.

3. Disclosure may be made to the Federal Labor Relations Authority, including its General Counsel, when requested in connection with investigation and resolution of allegations of unfair labor practices, in connection with the resolution of exceptions to arbitrator awards when a question of material fact is raised and matters before the Federal Service Impasses Panel.

The release of information to FLRA from this Privacy Act system of records is necessary to comply with the statutory mandate under which FLRA operates.

4. Disclosure may be made to officials of labor organizations recognized under 5 U.S.C. chapter 71 when relevant and necessary to their duties of exclusive representation concerning personnel policies, practices, and matters affecting working conditions.

5. Disclosure may be made to officials of the Merit Systems Protection Board, including the Office of the Special Counsel, when requested in connection with appeals, special studies of the civil service and other merit systems, review of rules and regulations, investigation of alleged or possible prohibited personnel practices, and such other functions promulgated in 5 U.S.C. 1205 and 1206, or as may be authorized by law.

6. Disclosure may be made to the Equal Employment Opportunity Commission when requested in connection with investigations of alleged or possible discrimination practices, examination of Federal affirmative employment programs, compliance with the Uniform Guidelines of Employee Selection Procedures, or other functions vested in the Commission by the President's Reorganization Plan No. 1 of 1978.

7. Disclosure may be made to the National Archives and Record Administration (NARA) in records management inspections conducted under authority of Title 44 United States Code.

NARA is responsible for archiving old records no longer actively used but which may be appropriate for preservation; they are responsible in general for the physical maintenance of the Federal government's records. VA must be able to turn records over to these agencies in order to determine the proper disposition of such records.

8. Disclosure of relevant information may be made to individuals, organizations, private or public agencies, etc., with whom VA has a contract or agreement to perform such services as VA may deem practicable for the purposes of laws administered by VA, in order for the contractor or subcontractor to perform the services of the contract or agreement.

VA occasionally contracts out certain functions when this would contribute to effective and efficient operations. VA must be able to give a contractor whatever information is necessary for the contractor to fulfill its duties. In these situations, safeguards are provided in the contract prohibiting the contractor from using or disclosing the information for any purpose other than that described in the contract.

9. Disclosure may be made to a member of Congress or staff person acting for the member when the member or staff person requests the records on behalf of and at the request of that individual.

Individuals sometimes request the help of a member of Congress in resolving some issues relating to a matter before VA. The member of Congress then writes VA, and VA must be able to give sufficient information to be response to the inquiry.

10. Disclosure may be made to a Federal, State or local agency, upon its official request, to the extent that it is relevant and necessary to that agency's decision regarding: the hiring, retention or transfer of an employee, the issuance of a security clearance, the letting of a contract, or the issuance or continuance of a license, grant or other benefit given by that agency. However, in accordance with an agreement with the U.S. Postal Service, disclosures to the U.S. Postal Service for decisions concerning the employment of veterans will only be made with the veteran's prior written consent.

VA must be able to provide information to agencies conducting background checks on applicants for employment or licensure.

III. Compatibility of the Proposed Routine Uses

The Privacy Act permits VA to disclose information about individuals contained in a system of records without their consent for a routine use, when the information will be used for a purpose that is compatible with the purpose for which the information was collected. In all of the routine use disclosures described above, either the recipient of the information will use the information in connection with a matter relating to one of VA's programs or to provide a benefit to VA, or disclosure is required by law.

The notice of intent to publish and an advance copy of the system notice have been sent to the appropriate Congressional committees and to the Director of the Office of Management and Budget (OMB) as required by 5 U.S.C. 552a(r) (Privacy Act) and guidelines issued by OMB (65 FR 77677), December 12, 2000.

Approved: January 24, 2006.
Gordon H. Mansfield,
Deputy Secretary of Veterans Affairs.

117VA103

SYSTEM NAME:

Veteran Canteen Service (VCS) Payroll Deduction System—VA

SYSTEM LOCATION:

Individual purchase records are maintained in the Veterans Canteen Service office at each Department of Veterans Affairs (VA) health care facility. Addresses for VA facilities are listed in VA Appendix 1. In addition, information from these records or copies of records are maintained in a centralized electronic database at the Austin Automation Center (AAC), 1615 East Woodward Street, Austin TX, 78772.

CATEGORIES OF INDIVIDUALS COVERED BY THE SYSTEM:

The individuals covered by the system encompass permanent VA employees, also known as customers, who participate in the VCS Payroll Deduction System, which permits them to pay for purchases in VCS canteens through deduction from their pay.

Categories of Records in the System:

These records include the following information:

—Customer identification information such as last name, first name, middle initial, social security number;

—Customer purchases made under the program;

—Payroll payments, cash payments, refunds for returned merchandise, and refunds for overpayments;

—Customer account balances and amounts written-off as uncollectible;

—Customer pay status when customer is in a “without pay” status;

—Identification of VCS employees creating customer transactions is by manual or electronic data capture. Manual transactions can be traced by a user ID within the payroll deduction system that identifies the individual entering the manual transaction. Electronic transactions can be traced via cashier code of the cashier ringing the transaction into the cash register; and

—Customer station number and canteen of purchase.

Authority for Maintenance of the System:

Title 38, United States Code, Part V, Chapter 78.

Purpose(s):

The records and information will be used to track customer purchases, payment and balances due to VCS. Records may also be used to identify and submit a customer for the purpose of debt collection. The records and information may be used for management and analysis reports of VCS programs.

Routine Uses of Records Maintained in the System, Including Categories of Users and the Purposes of Such Uses:

1. VA may disclose information from this system of records to a private debt collection agent for the purpose of collecting unpaid balances from customers who have left VA employment without making full payment for purchases made under the program.

2. VA may disclose information from this system of records to the U. S. Treasury Offset Program (TOPS) for the purpose of collecting unpaid balances from customers who have left VA employment without making full payment for purchases made under the program.

3. Disclosure may be made to the Federal Labor Relations Authority, including its General Counsel, when requested in connection with investigation and resolution of allegations of unfair labor practices, in connection with the resolution of exceptions to arbitrator awards when a question of material fact is raised and matters before the Federal Service Impasses Panel.

4. Disclosure may be made to officials of labor organizations recognized under 5 U.S.C. chapter 71 when relevant and necessary to their duties of exclusive representation concerning personnel policies, practices, and matters affecting working conditions.

5. Disclosure may be made to officials of the Merit Systems Protection Board, including the Office of the Special Counsel, when requested in connection with appeals, special studies of the civil service and other merit systems, review of rules and regulations, investigation of alleged or possible prohibited personnel practices, and such other functions promulgated in 5 U.S.C. 1205 and 1206, or as may be authorized by law.

6. Disclosure may be made to the Equal Employment Opportunity Commission when requested in connection with investigations of alleged or possible discrimination practices, examination of Federal affirmative employment programs, compliance with the Uniform Guidelines of Employee Selection Procedures, or other functions vested in the Commission by the President's Reorganization Plan No. 1 of 1978.

7. Disclosure may be made to the National Archives and Record Administration (NARA) in records management inspections conducted under authority of Title 44 United States Code.

8. Disclosure of relevant information may be made to individuals, organizations, private or public agencies, etc., with whom VA has a contract or agreement to perform such services as VA may deem practicable for the purposes of laws administered by VA, in order for the contractor or subcontractor to perform the services of the contract or agreement.

9. Disclosure may be made to a member of Congress or staff person acting for the member when the member or staff person requests the records on behalf of and at the request of that individual.

10. Disclosure may be made to a Federal, State or local agency, upon its official request, to the extent that it is relevant and necessary to that agency's decision regarding: The hiring, retention or transfer of an employee, the issuance of a security clearance, the letting of a contract, or the issuance or continuance of a license, grant or other benefit given by that agency. However, in accordance with an agreement with the U.S. Postal Service, disclosures to the U.S. Postal Service for decisions concerning the employment of veterans will only be made with the veteran's prior written consent.

Disclosure to Consumer Reporting Agencies:

Pursuant to 5 U.S.C. 552a(b)(12), VA may disclose records from this system to consumer reporting agencies as defined in the Fair Credit Reporting Act (15 US.C. 168la(f) or the Federal Claims Collection Act of 1966 (31 US.C. 3701(a)(3)).

POLICIES AND PRACTICES FOR STORING, RETRIEVING, ACCESSING, RETAINING, AND DISPOSING OF RECORDS IN THE SYSTEM:

STORAGE:

Records are maintained primarily on a computer disk in a centralized database system. Paper records of program Participation Agreements and individual customer records are maintained in canteen office files.

RETRIEVABILITY:

Records are retrieved by name and/or social security number of the participating VA employees or customers.

SAFEGUARDS:

1. Access to VA work and file areas is restricted to VA personnel with a legitimate need for the information in the performance of their official duties. Strict control measures are enforced to ensure that access by these individuals is appropriately limited. Information stored electronically may be accessed by authorized VCS employees at remote locations, including VA health care facilities. Access is controlled by individually unique passwords or codes, which must be changed periodically by the users.

2. Physical access to the Austin VA Data Processing Center is generally restricted to Center employees, custodial personnel, Federal Protective Service, and other security personnel. VA file areas are generally locked after normal duty hours, and the facilities are protected from outside access by the Federal Protective Service or other security personnel. Access to computer rooms is restricted to authorized operational personnel through electronic locking devices. All other persons gaining access to computer rooms are escorted.

3. All data transmissions are encrypted to prevent disclosure of protected Privacy Act information. Access to backup copies of data is restricted to authorized personnel in the same manner as the Austin VA Data Processing Center.

RETENTION AND DISPOSAL:

Records for active participants in the Payroll Deduction Program are maintained indefinitely. Records for participants who leave VA employment or voluntarily or involuntarily terminate their participation in the Payroll Deduction Program are retained for three years following the date the account attains a zero balance; or for three years following the date the account balance is written off following unsuccessful collection action.

SYSTEM MANAGER(S) AND ADDRESS:

Official responsible for policies and procedures: Office of the Chief Financial Officer, Veterans Canteen Service (103), Department of Veterans Affairs, 810 Vermont Avenue, NW., Washington, DC 20420. Officials maintaining the system: Chief of the Canteen Service at the facility where the individuals were associated. Addresses for VA facilities are listed in VA Appendix 1.

NOTIFICATION PROCEDURE:

Individuals who wish to determine whether this system of records contains records about them should contact the VCS Payroll Deduction Program Specialist at the Veterans Canteen Service Central Office (VCSCO-FC), St. Louis, Missouri 63125; telephone: (314) 845-1301. Inquiries should include the person's full name, social security number, date(s) of contact, and return address.

RECORD ACCESS PROCEDURE:

Individuals seeking information regarding access to and contesting of records in this system may write, call, or visit the VCS Payroll Deduction Program Specialist at the Veterans Canteen Service Central Office (VCSCO-FC), St. Louis, Missouri 63125; telephone: (314) 845-1301.

CONTESTING RECORD PROCEDURES:

(See Record Access Procedures above.)

RECORD SOURCE CATEGORIES:

Information in this system of records is provided by the customers who participate in the program, VA employees and various VA systems.

[FR Doc. 06-1078 Filed 2-3-06; 8:45 am]

BILLING CODE 8320-01-P